NATIONAL AERONAUTICS AND SPACE ADMINISTRATION

[Notice (03-065)]

Notice of Prospective Patent License

AGENCY: National Aeronautics and Space Administration.

ACTION: Notice of prospective patent license.

SUMMARY: NASA hereby gives notice that Intellimotion, Inc., of Moffett Field, CA, has applied for an exclusive license to practice the invention described and claimed in United States Patent No. 6,167,097 and 6,278,965, “Automated Traffic Management System and Method,” and “Real-Time Surface Traffic Advisor,” which are both assigned to the United States of America as represented by the Administrator of the National Aeronautics and Space Administration. Written objections to the prospective grant of a license should be sent to NASA Ames Research Center.

DATES: Responses to this notice must be received by June 30, 2003.

FOR FURTHER INFORMATION CONTACT: Rob M. Padilla, Patent Counsel, NASA Ames Research Center, Mail Stop 202A-4, Moffett Field, CA 94035-1000, telephone (650) 604-5104.

Dated: May 30, 2003.
Robert M. Stephens,
Deputy General Counsel.

[FR Doc. 03-14939 Filed 6-12-03; 8:45 am]

BILLING CODE 7510-01-P